DEPARTMENT OF HEALTH AND HUMAN SERVICES

Office of the Secretary

Agency Information Collection Activities; Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. “Request for Review of Medicare Hearing Decision/Order”—NEW—The Departmental Appeals Board (DAB) proposes to discontinue use of the existing SSA form HA-520 and establish a new HHS form to obtain information relevant to Medicare appeals. The HA-520 was originally developed by the Social Security Administration (SSA) for use in requesting review of Administrative Law Judges (ALJs) actions in both Social Security and Medicare cases. After SSA became an independent agency, SSA regulations beginning at 20 CFR 404.967 governing review of cases by the SSA Appeals Council were adopted by HHS to govern the DAB's review of ALJ decisions in Medicare cases. We are now establishing a new form which reflects the changed responsibilities of HHS, and includes the proper address for submission of requests for review of ALJ actions in Medicare cases. Revision of the form would allow for the collection of accurate information to facilitate sending these requests directly to the appropriate HHS office for processing and review. Respondents: Individuals; Number of Respondents: 1,000; Average Burden per Response: 15 minutes; Total Burden: 250 hours.

Send comments via e-mail to Geerie.Jones@HHS.gov or mail to OS Reports Clearance Office, Room 503H, Hubert H. Humphrey Building, 200 Independence Avenue, SW., Washington, DC 20201. Comments should be received within 60 days of this notice.

Dated: October 7, 2002.
Kerry Weems,
Deputy Assistant Secretary, Budget.

[FR Doc. 02-26182 Filed 10-11-02; 8:45 am]

BILLING CODE 4150-23-M